COMMITTEE FOR PURCHASE FROM PEOPLE WHO ARE BLIND OR SEVERELY DISABLED

Procurement List; Proposed Additions

AGENCY: Committee for Purchase from People Who Are Blind or Severely Disabled.

ACTION: Proposed Additions to and Deletions from the Procurement List.

SUMMARY: The Committee is proposing to add to the Procurement List services to be performed by nonprofit agencies employing persons who are blind or have other severe disabilities.

Comments Must be Received On or Before: July 27, 2008.

ADDRESSES: Committee for Purchase From People Who Are Blind or Severely Disabled, Jefferson Plaza 2, Suite 10800, 1421 Jefferson Davis Highway, Arlington, Virginia, 22202-3259.

FOR FURTHER INFORMATION OR TO SUBMIT COMMENTS CONTACT: Kimberly M. Zeich, Telephone: (703) 603-7740, Fax: (703) 603-0655, or e-mail CMTEFedReg@AbilityOne.gov.

SUPPLEMENTARY INFORMATION: This notice is published pursuant to 41 U.S.C. 47(a)(2) and 41 CFR 51-2.3. Its purpose is to provide interested persons an opportunity to submit comments on the proposed actions.

Additions

If the Committee approves the proposed additions, the entities of the Federal Government identified in this notice for each product or service will be required to procure the services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will services to the Government.

2. If approved, the action will result in authorizing small entities to furnish the services to the Government.

3. There are no known regulatory alternatives which would accomplish the objectives of the Javits-Wagner-O'Day Act (41 U.S.C. 46-48c) in connection with the services proposed for addition to the Procurement List.

Comments on this certification are invited. Commenters should identify the statement(s) underlying the certification on which they are providing additional information.

End of Certification

The following services are proposed for addition to Procurement List for production by the nonprofit agencies listed:

Services

Service Type/Location: Custodial Services. Grand Prairie Army Reserve Complex, Buildings 7900; 8070 and 8100, Grand Prairie, TX.

NPA: Goodwill Industrial Services of Fort Worth, Inc., Fort Worth, TX.

Contracting Activity: Army Reserve Contracting Center, 90th Regional Support Command, North Little Rock, AR.

Service Type/Location: Custodial Services. Illinois Military Academy, 1301 North MacArthur Blvd, Springfield, IL.

NPA: United Cerebral Palsy of the Land of Lincoln, Springfield, IL.

Contracting Activity: Illinois National Guard—Camp Lincoln, Springfield, IL.

Service Type/Location: Warehousing & Distribution Service. Naval Base Kitsap—Fleet and Industrial Supply Center (FISC), Bremerton, WA.

Service Type/Location: Warehousing & Distribution Service. Navy Undersea Warfare Center (NUWC) Division, Keyport, WA.

Service Type/Location: Warehousing & Distribution Service. Puget Sound Naval Shipyard (PSNS) and Intermediate Maintenance Facility (IMF) Submarine Base, Bangor, WA.

NPA: Skookum Educational Programs, Bremerton, WA.

Contracting Activity: Fleet and Industrial Supply Center, Bremerton, WA.

Service Type/Location: Custodial Services. US Coast Guard, Industrial Support Detachment (ISD) Building, 110 Mount Elliott Street, Detroit, MI.

NPA: New Horizons Rehabilitation Services, Inc., Auburn Hills, MI.

Contracting Activity: Department of Homeland Security, U.S. Coast Guard—Integrated Support Command (ISC), Cleveland, OH.

Service Type/Location: Medical Transcription. VA Southern Nevada Healthcare System, 2455 West Cheyenne Avenue, Las Vegas, NV.

NPA: National Telecommuting Institute, Inc., Boston, MA.

Contracting Activity: Department of Veterans Affairs, VISN 22 Network Business Center, Long Beach, CA.

Service Type/Location: Janitorial Services at Army/Navy Recruiting Office. Recruiting Station Army/Navy, 98-151 Pali Momi Street, Aiea, HI.

Service Type/Location: Janitorial Services at Air Force/Marine Corps Recruit. Recruiting Station 2, Air Force/Marine Corps, 98-151 Pali Momi Street, Aiea, HI.

Service Type/Location: Janitorial Services at Air Force Reserve Center. Recruiting Station 3 Air Force Reserve Center, 98-145 Kaonohi Street, Aiea, HI.

Service Type/Location: Janitorial Service at Army/Navy/Marines/AF Recruiting. Recruiting Station 4 Army/Navy/Marines/AF, 45-480 Kaneohe Bay Drive, Kaneohe, HI.

Service Type/Location: Janitorial Services at Army Recruiting Office. Recruiting Station 5 Army, 95-1249 Meheula Parkway, Mililani, HI.

NPA: Goodwill Contract Services of Hawaii, Inc., Honolulu, HI.

Contracting Activity: U.S. Army Engineering Division, Contracting Division, Honolulu, HI.

Patrick Rowe,
Deputy Executive Director.

[FR Doc. E8-14627 Filed 6-26-08; 8:45 am]

BILLING CODE 6353-01-P